DEPARTMENT OF TRANSPORTATION

National Highway Traffic Safety Administration

Petition for Exemption From the Vehicle Theft Prevention Standard; Mercedes-Benz

AGENCY: National Highway Traffic Safety Administration (NHTSA), Department of Transportation (DOT).

ACTION: Grant of petition for exemption.

SUMMARY: This document grants in full the Mercedes-Benz USA, LLC.'s, (MBUSA) petition for exemption of the C-Line Chassis vehicle line in accordance with 49 CFR part 543, Exemption from the Theft Prevention Standard. This petition is granted because the agency has determined that the antitheft device to be placed on the line as standard equipment is likely to be as effective in reducing and deterring motor vehicle theft as compliance with the parts-marking requirements of the Theft Prevention Standard (49 CFR part 541).

DATES: The exemption granted by this notice is effective beginning with model year (MY) 2008.

FOR FURTHER INFORMATION CONTACT: Ms. Carlita Ballard, Office of International Vehicle, Fuel Economy and Consumer Standards, NHTSA, 1200 New Jersey Avenue, SE., NVS-131, Room W43-439 (4th Floor), Washington, DC 20590. Ms. Ballard's phone number is (202) 366-5222. Her fax number is (202) 493-2990.

SUPPLEMENTARY INFORMATION: In a petition dated August 8, 2006, MBUSA requested exemption from the parts-marking requirements of the theft prevention standard (49 CFR part 541) for the C-Line Chassis vehicle line, beginning with the 2008 model year. The petition has been filed pursuant to 49 CFR part 543, Exemption from Vehicle Theft Prevention Standard, based on the installation of an antitheft device as standard equipment for an entire vehicle line.

Under § 543.5(a), a manufacturer may petition NHTSA to grant exemptions for one line of its vehicle lines per model year. In its petition, MBUSA provided a detailed description and diagram of the identity, design, and location of the components of the antitheft device for the C-Line Chassis vehicle line. MBUSA stated that all C-Line Chassis vehicles will be equipped with a passive, transponder-based electronic immobilizer device as standard equipment beginning with MY 2008. Features of the antitheft device will include an electronic key, a passive immobilizer system (FBS III) which includes an electronic ignition starter switch control unit (EIS) and an engine control unit (ECU). The device will also have a visible and audible alarm. The alarm system will provide protection for all four doors, the trunk and the engine hood. If any of the protected areas are violated, the four turn signal lamps and the left and right side turn signal marker lamps will flash, the interior lamps will switch on and the alarm will sound. MBUSA's submission is considered a complete petition as required by 49 CFR 543.7, in that it meets the general requirements contained in § 543.5 and the specific content requirements of § 543.6.

MBUSA stated that the transmitter key, the electronic ignition starter switch control unit and the engine control unit will work collectively to perform the immobilizer function. The immobilizer will prevent the engine from running unless a valid key is used in the ignition switch. Immobilization is activated when the key is removed from the ignition switch, whether the doors are open or closed. Once activated, a valid, coded-key must be inserted into the ignition switch to disable immobilization and permit the vehicle to start.

In addressing the specific content requirements of § 543.6, MBUSA provided information on the reliability and durability of its proposed device. To ensure reliability and durability of the device and to verify its ability to satisfactory perform under extreme conditions, MBUSA conducted various tests based on its own specified standards. MBUSA provided a detailed list of the various tests conducted and believes that the device is reliable and durable since the device complied with its own specific test conditions.

MBUSA also compared the device proposed for its vehicle line with other devices which NHTSA has determined to be as effective in reducing and deterring motor vehicle theft as would compliance with the parts-marking requirements. MBUSA stated that its proposed device is functionally equivalent to the systems used in the S-Line Chassis and E-Line Chassis vehicles which the agency has granted exemptions from the parts-marking requirements of the theft prevention standard. MBUSA concluded that the antitheft device for its C-Line Chassis vehicle line is no less effective than those devices in lines for which NHTSA has already granted full exemption.

On the basis of this comparison, MBUSA informed the agency that the C-Line Chassis vehicle line was first introduced as a model year 1994 vehicle. MBUSA stated that based on NHTSA's theft rates from 1994 to 2004, the average theft rate of the C-Line Chassis vehicles without the immobilizer was 1.6437 (CY 1994-1997) and 1.4167 after installation of the immobilizer device. MBUSA concluded that the data indicates that the immobilizer was effective in contributing to the theft rate reduction for its C-Line Chassis vehicles.

Pursuant to 49 U.S.C. 33106 and 49 CFR 543.7(b), the agency grants a petition for an exemption from the parts-marking requirements of part 541 either in whole or in part, if it determines that, based upon substantial evidence, the standard equipment antitheft device is likely to be as effective in reducing and deterring motor vehicle theft as compliance with the parts-marking requirements of part 541. The agency finds that MBUSA has provided adequate reasons for its belief that the antitheft device will reduce and deter theft. This conclusion is based on the information MBUSA provided about its device.

The agency concludes that the device will provide the five types of performance listed in § 543.6(a)(3): Promoting activation; attracting attention to the efforts of unauthorized persons to enter or operate a vehicle by means other than a key; preventing defeat or circumvention of the device by unauthorized persons; preventing operation of the vehicle by unauthorized entrants; and ensuring the reliability and durability of the device. The agency agrees that the device is substantially similar to devices in other vehicles lines for which the agency has already granted exemptions. In addition, the theft rate has reduced since the installation of this device on the line.

For the foregoing reasons, the agency hereby grants in full MBUSA's petition for exemption for the vehicle line from the parts-marking requirements of 49 CFR Part 541. The agency notes that 49 CFR Part 541, Appendix A-1, identifies those lines that are exempted from the Theft Prevention Standard for a given model year. 49 CFR 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If MBUSA decides not to use the exemption for this line, it must formally notify the agency, and, thereafter, the line must be fully marked as required by 49 CFR 541.5 and 541.6 (marking of major component parts and replacement parts).

NHTSA notes that if MBUSA wishes in the future to modify the device on which this exemption is based, the company may have to submit a petition to modify the exemption. Section 543.7(d) states that a Part 543 exemption applies only to vehicles that belong to a line exempted under this part and equipped with the anti-theft device on which the line's exemption is based. Further, § 543.9(c)(2) provides for the submission of petitions “to modify an exemption to permit the use of an antitheft device similar to but differing from the one specified in that exemption.”

The agency wishes to minimize the administrative burden that § t 543.9(c)(2) could place on exempted vehicle manufacturers and itself. The agency did not intend Part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: July 16, 2007.
Stephen R. Kratzke,
Associate Administrator for Rulemaking.

[FR Doc. E7-14093 Filed 7-19-07; 8:45 am]

BILLING CODE 4910-59-P